DEPARTMENT OF TRANSPORTATION

Office of the Secretary

Application of Taga Air Charter Service, Inc. for Commuter Air Carrier Authorization

AGENCY: Department of Transportation.

ACTION: Notice of Order to Show Cause (Order 2007-12-11), Docket DOT-OST-2006-25577.

SUMMARY: The Department of Transportation is directing all interested persons to show cause why it should not issue an order finding that Taga Air Charter Service, Inc., is not a U.S. citizen, as defined in 49 U.S.C. 40102(a)(15), and that its application for Commuter Air Carrier Authorization under section 41738 of the Statute is denied. In addition, we propose to cancel its existing air taxi registration pursuant to 49 U.S.C. 40109(f) and 14 CFR part 298.

DATES: Persons wishing to file objections should do so no later than January 22, 2008.

ADDRESSES: Objections and answers to objections should be filed in Docket DOT-OST-2006-25577, and addressed to U.S. Department of Transportation, Docket Operations, West Building Ground Floor, (M-30, Room W12-140) 1200 New Jersey Avenue, SE., Washington, DC 20590, and should be served upon the parties listed in Attachment A to the order.

FOR FURTHER INFORMATION CONTACT: Ronâle Taylor, Air Carrier Fitness Division (X-56, West Building, 8th Floor), U.S. Department of Transportation, 1200 New Jersey Avenue, SE., Washington, DC 20590, (202) 366-9721.

Dated: December 17, 2007.
Andrew B. Steinberg,
Assistant Secretary for Aviation and International Affairs.

[FR Doc. E7-24868 Filed 12-20-07; 8:45 am]

BILLING CODE 4910-62-P